DEPARTMENT OF ENERGY

Federal Energy Regulatory Commission

Notice of Application Tendered for Filing With the Commission, Soliciting Additional Study Requests, and Establishing Procedural Schedule for Relicensing and a Deadline for Submission of Final Amendments

October 15, 2003.

Take notice that the following hydroelectric license application has been filed with the Commission and is available for public inspection.

a. Type of Application: New Major License.

b. Project No.: P-289-013.

c. Date filed: October 7, 2003.

d. Applicant: Louisville Gas and Electric Company (LG&E).

e. Name of Project: Ohio Falls Hydroelectric Station.

f. Location: On the Ohio River, in Jefferson County, Kentucky. This project is located at the U.S. Army Corps of Engineer's McAlpine Locks and Dam Project.

g. Filed Pursuant to: Federal Power Act 16 U.S.C. 791(a)-825(r).

h. Applicant Contact: Ms. Linda S. Portasik, Senior Corporate Attorney, Louisville Gas and Electric Company, 220 West Main Street, Louisville, Kentucky 40202, (502) 627-2557.

i. FERC Contact: John Costello, john.costello@ferc.gov (202) 502-6119.

j. Cooperating Agencies: We are asking Federal, State, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form a factual basis for complete analysis of the application on its merit, the resource agency, Indian tribe, or person must file a request for a study with the Commission not later than 60 days after the application filing and serve a copy of the request on the applicant.

l. Deadline for filing additional study requests and requests for cooperating agency status: December 5, 2003.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link.

m. The application is not ready for environmental analysis at this time.

n. Project Description: The Ohio Falls Hydroelectric Station consists of the following existing facilities: (a) A concrete powerhouse containing eight-10,040 kW generating units, located at the U.S. Army Corps of Engineer's McAlpine Locks and Dam Project; (b) a concrete headworks section, 632 feet long and 2 feet wide, built integrally with the powerhouse; (c) an office and electric gallery building; (d) a 69 kV transmission line designated as line 6608 to the Canal substation; (e) an access road, (f) a 266.6-foot long swing bridge over McAlpine Locks for access; (g) one half mile of railroad tracks; and (h) appurtenant facilities. The project facilities are owned by LG&E.

o. A copy of the application is on file with the Commission and is available for public inspection. This filing may also be viewed on the Web at http://www.ferc.gov using the “eLibrary” link—select “Docket #” and follow the instructions. For assistance, please contact FERC Online Support at FERC Online Support@ferc.gov or toll free at (866) 208-3676 or for TTY, contact (202) 502-8659. A copy is also available for inspection and reproduction at the address in item h above.

p. You may also register online at http://www.ferc.gov/esubscribenow.htm to be notified via e-mail of new filings and issuances related to this or other pending projects. For assistance, contact FERC Online Support. To view upcoming FERC events, go to www.ferc.gov and click on “View Entire Calendar.”

q. With this notice, we are initiating consultation with the Kentucky State Historic Preservation Officer (SHPO), as required by 106, National Historic Preservation Act, and the regulations of the Advisory Council on Historic Preservation, 36, CFR, at 800.4.

r. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA issued in early 2005.

Issue Acceptance or Deficiency Letter—February 2004..

Issue Scoping Document—July 2004

Notice that application is ready for environmental analysis—November 2004

Notice of the availability of the EA—February 2005

Ready for Commission decision on the application—October 2005

Final amendments to the application must be filed with the Commission no later than 30 days from the issuance date of the “notice of ready for environmental analysis.”

Linda Mitry,
Acting Secretary.

[FR Doc. E3-00088 Filed 10-21-03; 8:45 am]

BILLING CODE 6717-01